DEPARTMENT OF THE INTERIOR

Office of the Secretary

25 CFR Ch. I

30 CFR Chs. II and VII

36 CFR Ch. I

43 CFR Subtitle A, Chs. I and II

48 CFR Ch. 14

50 CFR Chs. I and IV

[256D0102DM, DS10200000, DLSN00000.0000000; DX10201]

Semiannual Regulatory Agenda

AGENCY: Office of the Secretary, Interior.

ACTION: Semiannual Regulatory Agenda.

SUMMARY: This notice provides the semiannual agenda of the Department of the Interior (Department) rules scheduled for review or development between Spring 2025 and Spring 2026. The Regulatory Flexibility Act and Executive Order 12866 require publication of the agenda.

ADDRESSES: Unless otherwise indicated, all agency contacts are located at the Department of the Interior, 1849 C Street NW, Washington, DC 20240.

FOR FURTHER INFORMATION CONTACT: Please direct all comments and inquiries about these rules to the appropriate agency contact. Please direct general comments relating to the agenda to the Office of Executive Secretariat and Regulatory Affairs, Department of the Interior, at the address above or at (202) 513-0357.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects. The complete Unified Agenda will be published at www.reginfo.gov, in a format that offers users enhanced ability to obtain information from the agenda database. Agenda information is also available at www.regulations.gov, the Government-wide website for submission of comments on proposed regulations.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation.

E. Michael Abler,
Deputy Director, Executive Secretariat and Regulatory Affairs.

Bureau of Safety and Environmental Enforcement—Long-Term Actions
Sequence No. | Title | Regulation Identifier No.
102 | Revisions to Decommissioning Requirements on the OCS | 1014-AA53

United States Fish and Wildlife Service—Proposed Rule Stage
Sequence No. | Title | Regulation Identifier No.
103 | Importation, Exportation, and Transportation of Wildlife; Updates to the Regulations | 1018-BF16
104 | Migratory Bird Hunting; 2026-27 Migratory Game Bird Hunting Regulations | 1018-BI69

United States Fish and Wildlife Service—Final Rule Stage
Sequence No. | Title | Regulation Identifier No.
105 | Migratory Bird Hunting; 2025-26 Migratory Game Bird Hunting Regulations | 1018-BH65
106 | Rescinding the Definition of “Harm” Under the Endangered Species Act | 1018-BI38

Bureau of Ocean Energy Management—Proposed Rule Stage
Sequence No. | Title | Regulation Identifier No.
107 | Risk Management and Financial Assurance for Outer Continental Shelf Lease and Grant Obligations | 1010-AE26

Bureau of Land Management—Proposed Rule Stage
Sequence No. | Title | Regulation Identifier No.
108 | Rescission of the Intermittent Energy Rule | 1004-AF32
109 | Royalty for Oil and Gas Lost from Onshore Federal and Indian Leases | 1004-AF33

Department of the Interior (DOI): Bureau of Safety and Environmental Enforcement (BSEE) | Long-Term Actions

102. REVISIONS TO DECOMMISSIONING REQUIREMENTS ON THE OCS [1014-AA53]

Legal Authority: Outer Continental Shelf Lands Act, 43 U.S.C. 1331 to 1356a

Abstract: This proposed rule would address issues relating to (1) idle iron by adding a definition of this term to clarify that it applies to idle wells and structures on active leases; (2) abandonment in place of subsea infrastructure by adding regulations addressing when BSEE may approve decommissioning-in-place instead of removal of certain subsea equipment; and (3) other operational considerations.

Timetable:

Action | Date | FR Cite
NPRM | 07/00/26
NPRM Comment Period End | 10/00/26

Regulatory Flexibility Analysis Required: Yes

Agency Contact: Kirk Malstrom, Chief, Regulations and Standards Branch, Department of the Interior, Bureau of Safety and Environmental Enforcement, 45600 Woodland Road, Sterling, VA 20166

Phone: 703 787-1751

Fax: 703 787-1555

Email: kirk.malstrom@bsee.gov

RIN: 1014-AA53

Department of the Interior (DOI): United States Fish and Wildlife Service (FWS) | Proposed Rule Stage

103. IMPORTATION, EXPORTATION, AND TRANSPORTATION OF WILDLIFE; UPDATES TO THE REGULATIONS [1018-BF16]

Legal Authority: 16 U.S.C. 33 8(d)-(f); 16 U.S.C. 668; 16 U.S.C. 704; 16 U.S.C. 712; 16 U.S.C. 1382; 16 U.S.C. 1538(d)-(f); 16 U.S.C. 1540(f); 16 U.S.C. 3371 to 3378; 16 U.S.C. 4223 to 4244; 16 U.S.C. 4901 to 4916; 18 U.S.C. 42; 31 U.S.C. 42; 31 U.S.C. 9701; . . .

Abstract: This proposed rule would revise the FWS regulations governing the importation and exportation of wildlife. In conducting this rulemaking, FWS will review all sections of 50 CFR part 14 and propose necessary revisions. Some substantive changes that FWS is considering include clarifying and adding definitions; codifying our approach to compliance with the Freedom of Information Act; designating additional ports for wildlife trade and clarifying the regulations pertaining to ports; adding sections related to requirements for urine, feces, and synthetically derived DNA, exempt species, and international mail; removing a section related to personally owned pet birds; clarifying language related to declaration and clearance requirements; streamlining marking requirements; and updating the fee schedule to better reflect 2025 conditions.

Timetable:

Action | Date | FR Cite
NPRM | 08/00/25

Regulatory Flexibility Analysis Required: Yes

Agency Contact: Doug Ault, Assistant Director, Office of Law Enforcement, Department of the Interior, United States Fish and Wildlife Service, 5275 Leesburg Pike, MS: LEO, Falls Church, VA 22041-3803

Phone: 703 358-2290

Fax: 703 358-1947

Email: douglas_ault@fws.gov

RIN: 1018-BF16

104. • MIGRATORY BIRD HUNTING; 2026-27 MIGRATORY GAME BIRD HUNTING REGULATIONS [1018-BI69]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons.

Timetable:

Action | Date | FR Cite
NPRM | 10/00/25

Regulatory Flexibility Analysis Required: Yes

Agency Contact: Jerome Ford, Assistant Director-Migratory Bird Program, Department of the Interior, United States Fish and Wildlife Service, 5275 Leesburg Pike, MS-MB, Falls Church, VA 22041-3803

Phone: 202 208-1050

Email: jerome_ford@fws.gov

RIN: 1018-BI69

Department of the Interior (DOI): United States Fish and Wildlife Service (FWS) | Final Rule Stage

105. MIGRATORY BIRD HUNTING; 2025-26 MIGRATORY GAME BIRD HUNTING REGULATIONS [1018-BH65]

Legal Authority: 16 U.S.C. 703 et seq.; 16 U.S.C. 742a-j

Abstract: This rulemaking action would establish annual hunting regulations for certain migratory game birds. FWS annually prescribes the frameworks, or outside limits, for season lengths, bag limits, and areas for migratory game bird hunting. After these frameworks are established, States and Tribes may select season dates, bag limits, and other regulatory options for their hunting seasons. Migratory bird management is a cooperative effort of Federal, State, and Tribal governments.

Timetable:

Action | Date | FR Cite
NPRM (Preliminary) | 01/21/25 | 90 FR 7056
NPRM Comment Period End | 02/20/25
Proposed Frameworks | 04/23/25 | 90 FR 17300
Proposed Frameworks; Comment Period End | 05/27/25
Final Frameworks | 08/00/25

Regulatory Flexibility Analysis Required: Yes

Agency Contact: Jerome Ford, Assistant Director-Migratory Bird Program, Department of the Interior, United States Fish and Wildlife Service, 5275 Leesburg Pike, MS-MB, Falls Church, VA 22041-3803

Phone: 202 208-1050

Email: jerome_ford@fws.gov

RIN: 1018-BH65

106. • RESCINDING THE DEFINITION OF “HARM” UNDER THE ENDANGERED SPECIES ACT [1018-BI38]

Legal Authority: 16 U.S.C. 1531 et seq.

Abstract: The U.S. Fish and Wildlife Service and the National Marine Fisheries Service (we) are proposing to rescind the regulatory definition of “harm” in our Endangered Species Act (ESA) regulations. The existing regulatory definition of “harm,” which includes habitat modification, runs contrary to the best meaning of the statutory term “take.” We are undertaking this change to adhere to the single, best meaning of the ESA.

Timetable:

Action | Date | FR Cite
NPRM | 04/17/25 | 90 FR 16102
NPRM Comment Period End | 05/19/25
Final Action | 07/00/25

Regulatory Flexibility Analysis Required: Yes

Agency Contact: Gina Shultz, Acting Assistant Director, Ecological Services, Department of the Interior, United States Fish and Wildlife Service, MS: ES, 5275 Leesburg Pike, Falls Church, VA 22041

Phone: 703 358-2171

Email: adecologicalservices@fws.gov

RIN: 1018-BI38

Department of the Interior (DOI): Bureau of Ocean Energy Management (BOEM) | Proposed Rule Stage

107. • RISK MANAGEMENT AND FINANCIAL ASSURANCE FOR OUTER CONTINENTAL SHELF LEASE AND GRANT OBLIGATIONS [1010-AE26]

Legal Authority: 43 U.S.C. 1331, OCS Lands Act; E.O. 14154, Unleashing American Energy

Abstract: This proposed rule would rescind BOEM's final rule “Risk Management and Financial Assurance for OCS Lease and Grant Obligations.” The proposed rule would revise the criteria for determining whether oil, gas, and sulfur lessees, right-of-use and easement grant holders, and pipeline right-of-way grant holders are required to provide financial assurance above the current minimum bonding levels to ensure compliance with their Outer Continental Shelf (OCS) Lands Act obligations. This rule, if finalized, would reduce the amount of supplemental financial assurance required from oil gas, and sulfur lessees operating on the OCS and would support the goals of E.O. 14154.

Timetable:

Action | Date | FR Cite
NPRM | 01/00/26

Regulatory Flexibility Analysis Required: Yes

Agency Contact: Karen Thundiyil, Director, Office of Regulatory Affairs, Department of the Interior, Bureau of Ocean Energy Management, 1849 C Street NW, Washington, DC 20240

Phone: 202 742-0970

Email: karen.thundiyil@boem.gov

RIN: 1010-AE26

Department of the Interior (DOI): Bureau of Land Management (BLM) | Proposed Rule Stage

108. • RESCISSION OF THE INTERMITTENT ENERGY RULE [1004-AF32]

Legal Authority: 43 U.S.C. 1733; 43 U.S.C. 1740; 43 U.S. 1763; Public Law 116-260

Abstract: The BLM is proposing to rescind the “Rights-of-Way, Leasing, and Operations for Renewable Energy” final rule, issued on May 1, 2024.

Timetable:

Action | Date | FR Cite
NPRM | 10/00/25

Regulatory Flexibility Analysis Required: Yes

Agency Contact: Motunrayo Kemiki, Chief, Division of Renewable Energy, Department of the Interior, Bureau of Land Management, 1849 C Street Northwest, Washington, DC 20240

Phone: 202 834-2701

Email: mkemiki@blm.gov

RIN: 1004-AF32

109. • ROYALTY FOR OIL AND GAS LOST FROM ONSHORE FEDERAL AND INDIAN LEASES [1004-AF33]

Legal Authority: 30 U.S.C. 181 et seq.; 30 U.S.C. 351 et seq.; 30 U.S.C. 1701 et seq.; 43 U.S.C. 1701 et seq.; 25 U.S.C. 396a et seq.; 25 U.S.C. 2102 et seq; 25 U.S.C. 396 ; 30 U.S.C. 301-306; . . .

Abstract: This proposed rule would rescind BLM's final rule “Waste Prevention, Production Subject to Royalties, and Resource Conservation,” consistent with the priorities identified in E.O. 14154 and SO 3418. The rule would reduce operator burdens.

Timetable:

Action | Date | FR Cite
NPRM | 10/00/25

Regulatory Flexibility Analysis Required: Yes

Agency Contact: John Ajak, Deputy Division Chief, Division of Fluid Minerals, Department of the Interior, Bureau of Land Management, 1849 C Street Northwest, Washington, DC 20240

Phone: 505 549-9654

Email: jajak@blm.gov

RIN: 1004-AF33

[FR Doc. Filed 08-18-25; 0:00 a.m.]

BILLING CODE 4334-63-P

[FR Doc. 2025-18330 Filed 9-19-25; 8:45 am]

BILLING CODE 4334-63-P